Title 3—

The President

Proclamation 8612 of December 3, 2010

International Day of Persons With Disabilities, 2010

By the President of the United States of America

A Proclamation

America stands in solidarity with the growing number of nations around the world that have committed themselves to ending unequal treatment of persons with disabilities. On International Day of Persons with Disabilities, we acknowledge the contributions of women and men with disabilities around the world, and we recognize our charge to ensure that all individuals can enjoy full inclusion and participation in our societies.

My Administration is continuing to protect and promote human rights, fair opportunity, and equal access for people with disabilities. Last year, the United States became a proud signatory of the United Nations Convention on the Rights of Persons with Disabilities, the first new human rights treaty of the 21st century. Like our laws in the United States, this treaty urges equal protection and equal benefit of the law for all persons with disabilities, and it reaffirms the inherent dignity, worth, and independence of the 650 million individuals with disabilities worldwide. To advance our international work in this area, my Administration has named a Special Advisor for International Disability Rights at the Department of State. My Administration also continues to support the efforts of the World Intellectual Property Organization to facilitate and increase access to literary, artistic, and scientific materials for persons with disabilities. With our partners around the globe, we can affirm the rights of individuals with disabilities to live independently if they choose, free from the fear of discrimination, stigma, or economic insecurity.

In acknowledging the progress of the past year, we also reflect upon important milestones in America’s civil rights struggle for people with disabilities. This year marks the 20th anniversary of the Americans with Disabilities Act and the 35th anniversary of the Individuals with Disabilities Education Act. These historic, bipartisan civil rights laws were clarion calls for equal access for and an end to discrimination against persons with disabilities, and they have paved the way for countless Americans with disabilities to share their talents and strengthen our communities.

We have made progress, but still have a great distance to journey before every person living with a disability can benefit from the same access and protections, in the United States and abroad. As we celebrate International Day of Persons with Disabilities, let us reinvigorate our commitment to eradicate barriers and ensure equal opportunity for all.

NOW, THEREFORE, I, BARACK OBAMA, President of the United States of America, by virtue of the authority vested in me by the Constitution and the laws of the United States, do hereby proclaim December 3, 2010, as International Day of Persons with Disabilities. I call on all Americans to observe this day with appropriate ceremonies, activities, and programs.

IN WITNESS WHEREOF, I have hereunto set my hand this third day of December, in the year of our Lord two thousand ten, and of the Independence of the United States of America the two hundred and thirty-fifth.

[FR Doc. 2010-30998

Filed 12-7-10; 8:45 am]

Billing code 3195-W1-P